DEPARTMENT OF HOMELAND SECURITY

Coast Guard

33 CFR Part 165

[Docket No. USCG-2024-0194]

Safety Zone; Fireworks Display; Elizabeth River, Town Point Reach, Norfolk, VA

AGENCY: Coast Guard, DHS.

ACTION: Notification of enforcement of regulation.

SUMMARY: The Coast Guard will enforce a safety zone regulation for Norfolk's 42nd Annual Independence Day Fireworks on July 4th, 2024, to provide for the safety of life on navigable waterways of the Elizabeth River, at Town Point Reach during this event. Our regulation for marine events within the Fifth Coast Guard District identifies the regulated area for this event in Norfolk, VA. During the enforcement period, entry of vessels or persons into this zone is prohibited unless specifically authorized by the Captain of the Port Virginia.

DATES: The regulations in 33 CFR 165.506 will be enforced for the location identified as item 13 in table 3 to paragraph (h)(3) from 9 p.m. until 10 p.m. on July 4th, 2024.

FOR FURTHER INFORMATION CONTACT: If you have questions about this notification of enforcement, call or email LCDR Ashley Holm, Chief, Waterways Management Division, Sector Virginia, U.S. Coast Guard; telephone 757-668-5580 email Ashley.E.Holm@uscg.mil.

SUPPLEMENTARY INFORMATION: As noted in paragraph (c) of § 165.506, the enforcement period(s) for each safety zone identified in paragraph (h) of this section is subject to change, and the enforcement period announced here differs from the enforcement period noted in item 13 of table 3 to paragraph (h). The Coast Guard will enforce the safety zone in 33 CFR 165.506 for Norfolk's 42nd Annual Independence Day Fireworks regulated area from 9 p.m. to 10 p.m. on Thursday, July 4th, 2024, rather than on one of the days of the first or second weekend of July. This action is being taken to provide for the safety of life on navigable waterways during this event. Section 165.506, specifies the location of the regulated area, which encompasses portions of the Elizabeth River and Town Point Reach. During the enforcement period, the entry of vessels or persons into this zone is prohibited unless specifically authorized by the Captain of the Port, Sector Virginia.

In addition to this notification of enforcement in the Federal Register, the Coast Guard plans to provide notification of this enforcement period via the Local Notice to Mariners and marine information broadcasts.

Dated: April 16, 2024.
Jennifer A. Stockwell,
Captain, U.S. Coast Guard, Captain of the Port, Sector Virginia.

[FR Doc. 2024-10022 Filed 5-7-24; 8:45 am]

BILLING CODE 9110-04-P